DEPARTMENT OF THE INTERIOR

Bureau of Land Management

[NV-910-01-0777-30]

Northeastern Great Basin Resource Advisory Council Meeting Location and Time

AGENCY: Bureau of Land Management, Interior.

ACTION: Resource Advisory Council's meeting location and time.

SUMMARY: In accordance with the Federal Land Policy and Management Act and the Federal Advisory Committee Act of 1972 (FACA), 5 U.S.C., the Department of the Interior, Bureau of Land Management (BLM), Council meetings will be held as indicated below. The agenda for this meeting includes: A field tour to Crescent Valley to view/discuss grazing and mining issues, approval of minutes of the previous meetings, Off-Highway Vehicle Draft Guidelines, Vegetation Draft Guidelines, 3809 Guidelines, Field Managers' and District Ranger's reports.

All meetings are open to the public. The public may present written comments to the Council. Each formal Council meeting will also have time allocated for hearing public comments. The public comment period for the Council meeting is listed below. Depending on the number of persons wishing to comment and time available, the time for individual oral comments may be limited. Individuals who plan to attend and need special assistance, such as sign language interpretation, tour transportation or other reasonable accommodations, should contact the BLM as provided below.

DATES, TIMES, PLACE: The time and location of the meeting is as follows: Northeastern Great Basin Resource Advisory Council, BLM Battle Mountain Field Office, 50 Bastian Road, Battle Mountain, Nevada, 89820; Field Tour April 24, 2002, beginning at 9 a.m. and returning at 5 p.m.; Business Meeting April 25, 2002 beginning at 9 a.m., public comment period 1:30 p.m.; tentative adjournment at 5 p.m.

FOR FURTHER INFORMATION CONTACT: Mike Brown, Public Affairs Specialist, Elko Field Office, 3900 E. Idaho Street, Elko, NV 89801, telephone (775) 753-0386.

SUPPLEMENTARY INFORMATION: The purpose of the Council is to advise the Secretary of the Interior, through the BLM, on a variety of planning and management issues, associated with the management of the public lands.

David Stout,
Associate Field Manager, Elko Field Office.

[FR Doc. 02-6778 Filed 3-20-02; 8:45 am]

BILLING CODE 4310-HC-P